DEPARTMENT OF AGRICULTURE

Agricultural Marketing Service

[Doc. No. AMS-NOP-23-0026]

Meeting of the National Organic Standards Board

AGENCY: Agricultural Marketing Service, USDA.

ACTION: Notice of public meeting.

SUMMARY: In accordance with the Federal Advisory Committee Act, as amended, the Agricultural Marketing Service (AMS), U.S. Department of Agriculture (USDA), is announcing a meeting of the National Organic Standards Board (NOSB). The NOSB assists the USDA in the development of standards for substances to be used in organic production and advises the Secretary of Agriculture on any other aspects of the implementation of the Organic Foods Production Act (OFPA).

DATES: An in-person meeting will be held October 24-26, 2023, from 10:00 a.m. to approximately 6:00 p.m. Eastern Time (ET) each day and we plan to include a broadcast meeting virtually. The NOSB will hear oral public comments via webinars on Tuesday, October 17, 2023, and Thursday, October 19, 2023, from 12:00 p.m. to approximately 5:00 p.m. ET. The deadline to submit written comments and/or sign up for oral comment at either the webinar or in-person is 11:59 p.m. ET, September 28, 2023.

Public Comments: Comments should address specific topics noted on the meeting agenda.

Written Comments: Written public comments will be accepted on or before 11:59 p.m. ET on September 28, 2023, via http://www.regulations.gov (Doc. No. AMS-NOP-23-0026). Comments submitted after this date will be added to the public comment docket, but Board members may not have adequate time to consider those comments prior to making recommendations. NOP strongly prefers comments be submitted electronically. However, written comments may also be submitted (i.e., postmarked) via mail to the person listed under FOR FURTHER INFORMATION CONTACT by or before the deadline.

Oral Comments: The NOSB will hear oral public comments via webinars on Tuesday, October 17, 2023, and Thursday, October 19, 2023, from 12:00 p.m. to approximately 5:00 p.m. ET. Each commenter wishing to address the Board must pre-register by 11:59 p.m. ET on September 28, 2023, and can register for only one speaking slot. Instructions for registering and participating in the webinars can be found at https://www.ams.usda.gov/event/national-organic-standards-board-nosb-meeting-providence-ri.

ADDRESSES: The in-person meeting will take place at Marriott Providence Downtown, One Orms Street, Providence, Rhode Island 02904, United States and will be broadcast virtually. Virtual webinars may be accessed via the internet and/or phone. Detailed information pertaining to the webinar and in-person meeting, including virtual viewing options, can be found at https://www.ams.usda.gov/event/national-organic-standards-board-nosb-meeting-providence-ri.

FOR FURTHER INFORMATION CONTACT: Ms. Michelle Arsenault, Advisory Committee Specialist, National Organic Standards Board, USDA-AMS-NOP, 1400 Independence Avenue SW, Room 2642-S, STOP 0268, Washington, DC 20250-0268; Phone: (202) 997-0115; Email: nosb@usda.gov.

SUPPLEMENTARY INFORMATION: In accordance with the Federal Advisory Committee Act, 5 U.S.C. App. 10 and 7 U.S.C. 6518(e), as amended, AMS is announcing a meeting of the NOSB. The NOSB makes recommendations to USDA about whether substances should be allowed or prohibited in organic production and/or handling, assists in the development of standards for organic production, and advises the Secretary on other aspects of the implementation of the Organic Foods Production Act, 7 U.S.C. 6501 et seq. NOSB is holding a public meeting to discuss and vote on proposed recommendations to USDA, to obtain updates from the USDA National Organic Program (NOP) on issues pertaining to organic agriculture, and to receive comments from the organic community. The meeting is open to the public. Registration is only required to sign up for oral comments. All meeting documents and instructions for participating will be available on the AMS website at https://www.ams.usda.gov/event/national-organic-standards-board-nosb-meeting-providence-ri.

Please check the website periodically for updates. Meeting topics will encompass a wide range of issues, including substances petitioned for addition to, or removal from, the National List of Allowed and Prohibited Substances (National List), substances on the National List that are under sunset review, and guidance on organic policies.

Meeting Accommodations: The meeting hotel is compliant with the Americans with Disabilities Act, and the USDA provides reasonable accommodation to individuals with disabilities where appropriate. If you are a person requiring reasonable accommodation, please make requests in advance for sign language interpretation, assistive listening devices, or other reasonable accommodation to the person listed under FOR FURTHER INFORMATION CONTACT. Determinations for reasonable accommodation will be made on a case-by-case basis.

Dated: June 2, 2023.
Cikena Reid,
USDA Committee Management Officer.

[FR Doc. 2023-12232 Filed 6-7-23; 8:45 am]

BILLING CODE 3410-02-P